EXPORT-IMPORT BANK OF THE UNITED STATES

[Public Notice: 2019-6023]

Agency Information Collection Activities: Comment Request

AGENCY: Export-Import Bank of the United States.

ACTION: Submission for OMB Review and comments request.

Form Title: EIB 92-51 Application for Special Buyer Credit Limit under the Multi-Buyer Export Credit Insurance Policy.

SUMMARY: The Export-Import Bank of the United States (EXIM Bank), as a part of its continuing effort to reduce paperwork and respondent burden, invites the general public and other Federal Agencies to comment on the proposed information collection, as required by the Paperwork Reduction Act of 1995.

The Application for Special Buyer Credit Limit under the Multi-Buyer Export Credit Insurance Policy is used by policyholders, the majority of whom are U.S. small businesses, who export U.S. goods and services. This application provides EXIM Bank with the credit information necessary to make a determination of eligibility of a transaction for EXIM Bank support with a foreign buyer credit request and to obtain legislatively required assurance of repayment and fulfills other statutory requirements.

The application can be reviewed at: http://www.exim.gov/sites/default/files/pub/pending/eib-92-51.pdf Application for Special Buyer Credit Limit Multi-buyer Credit Insurance Policy.

DATES: Comments should be received on or before November 29, 2019 to be assured of consideration.

ADDRESSES: Comments may be submitted electronically on WWW.REGULATIONS.GOV or by mail to Rodrigo Patzy, Export-Import Bank of the United States, 811 Vermont Ave. NW, Washington, DC 20571

SUPPLEMENTARY INFORMATION:

Titles and Form Number: EIB 92-51 Application for Special buyer credit Limit Multi-buyer Credit Insurance Policy.

OMB Number: 3048-0015.

Type of Review: Regular.

Need and Use: The information requested enables the applicant to provide EXIM Bank with the information necessary to obtain legislatively required assurance of repayment and fulfills other statutory requirements.

The only changes to this form are to have the summary of credit experience with the buyer mirror the questions of our computer-based program: Ex-Im online. No new information is being collected.

Affected Public: This form affects entities involved in the export of U.S. goods and services.

The number of respondents: 4,300.

Estimated time per respondents: 25 minutes.

The frequency of response: As needed.

Annual hour burden: 1,792 total hours.

Government Expenses:

Reviewing time per hour: 1 hour.

Responses per year: 4,300.

Reviewing time per year: 4,300 hours.

Average Wages per hour: $42.50.

Average cost per year (time * wages): $182,750.

Benefits and overhead: 20%.

Total Government Cost: $219,300.

Bassam Doughman,
Project Manager, Agency Clearance Officer, Office of the Chief Information Officer.

[FR Doc. 2019-21125 Filed 9-27-19; 8:45 am]

BILLING CODE 6690-01-P